ENVIRONMENTAL PROTECTION AGENCY

[OH-166-1; FRL-8301-6]

Adequacy Status of the Youngstown, OH, Submitted 8-Hour Ozone Redesignation and Maintenance Plan for Transportation Conformity Purposes

AGENCY: Environmental Protection Agency (EPA).

ACTION: Notice of adequacy.

SUMMARY: In this notice, EPA is notifying the public that we have found that the motor vehicle emissions budgets (MVEBs) for volatile organic compounds (VOC) and oxides of nitrogen (NOX) in the Youngstown, Ohio area (Columbiana, Mahoning, and Trumbull Counties) are adequate for use in transportation conformity determinations. Ohio submitted these budgets with an 8-hour ozone redesignation request and maintenance plan on December 4, 2006, and February 20, 2007. As a result of our finding, Youngstown, Ohio must use the MVEBs from the submitted 8-hour ozone redesignation and maintenance plan for future conformity determinations.

DATES: This finding is effective May 3, 2007.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we”, “us” or “our” is used, we mean EPA.

Background

Today's notice is simply an announcement of a finding that we have already made. On March 21, 2007, EPA Region 5 sent a letter to the Ohio Environmental Protection Agency stating that the 2009 and 2018 MVEBs for the Youngstown area, which were submitted with the 8-hour ozone redesignation request and maintenance plan, are adequate. Receipt of these MVEBs was announced on EPA's conformity Web site, and no comments were submitted. The finding is available at EPA's conformity Web site: http://www.epa.gov/otaq/stateresources/transconf/adequacy.htm.

The adequate 2009 and 2018 MVEBs, in tons per day (tpd), for VOC and NOX for Youngstown are as follows:

| 2005 MVEB (tpd) | 2018 MVEB (tpd)
VOC | 19.58 | 10.36
NOX | 33.71 | 13.29

Transportation conformity is required by section 176(c) of the Clean Air Act. EPA's conformity rule requires that transportation plans, programs, and projects conform to state air quality implementation plans and establishes the criteria and procedures for determining whether or not they do. Conformity to a State Implementation Plan (SIP) means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's conformity Web site: http://www.epa.gov/otaq/stateresources/transconf/adequacy.htm.

Authority: 42 U.S.C. 7401-7671q.

Dated: April 5, 2007.
Walter W. Kovalick,
Acting Regional Administrator, Region 5.

[FR Doc. E7-7367 Filed 4-17-07; 8:45 am]

BILLING CODE 6560-50-P